SMALL BUSINESS ADMINISTRATION

13 CFR Part 130

RIN 3245-AE05

Small Business Development Centers; Correction

AGENCY: U.S. Small Business Administration.

ACTION: Final rule; correcting amendments.

SUMMARY: The U.S. Small Business Administration (SBA or the Agency) is correcting a final rule published in the Federal Register on November 7, 2023. The rule updated the regulations for the Small Business Development Centers Program (the SBDC Program or the Program).

DATES: This correction is effective March 12, 2024.

FOR FURTHER INFORMATION CONTACT: Rachel Karton, Program Manager for the SBDC Program, at 202-205-6766 or rachel.newman-karton@sba.gov.

SUPPLEMENTARY INFORMATION: In a final rule published on November 7, 2023 (88 FR 76625), SBA incorporated the Uniform Guidance at 2 CFR part 200 on receiving and using Federal awards; made various revisions to align the regulations with the text of the SBDC statute; and adopted the proposed rule with changes from the comments received in response to the publication of the NPRM. This correction to the final rule makes three clarifications. First, it clarifies the basis on which the Administrator may make an exception to the client privacy restriction of § 130.380. Second, it corrects the definition of “Overmatched amount” in § 130.110 to match the guidelines provided in § 130.450(g). Finally, it revises the last sentence in § 130.450(g)(3).

List of Subjects in 13 CFR Part 130

Grant programs—business, Small businesses, Technical assistance.

Accordingly, the Small Business Administration amends 13 CFR part 130 by making the following correcting amendments:

PART 130—SMALL BUSINESS DEVELOPMENT CENTERS

1. The authority citation for part 130 continues to read as follows:

Authority: 15 U.S.C. 634(b)(6), 648, and 648 note.

2. Amend § 130.110 by revising the definition of “Overmatched amount” to read as follows:

§ 130.110 Definitions.

* * * * *

Overmatched amount. Overmatched amounts are those which are derived from eligible matching sources; are reasonable, allowable, and allocable to the SBDC program; are over and above the minimum match required to the federal expenditures; and are included on the required SBDC financial reporting to SBA for the project period.

* * * * *

3. Amend § 130.380 by revising paragraph (a)(2) to read as follows:

§ 130.380 Client privacy.

(a) * * *

(2) The Administrator considers such a disclosure to be necessary for the purpose of conducting a financial audit of a small business development center, not including those required under § 130.830; or

* * * * *

4. Amend § 130.450 by revising the last sentence in paragraph (g)(3) to read as follows:

§ 130.450 Matching funds.

* * * * *

(g) * * *

(3) * * * Such offsetting funds may be applied to Federal or matching accounts.

* * * * *

Mark Madrid,
Associate Administrator, Office of Entrepreneurial Development.

[FR Doc. 2024-05146 Filed 3-11-24; 8:45 am]

BILLING CODE 8026-09-P